SOCIAL SECURITY ADMINISTRATION

20 CFR Parts 404 and 422

RIN 0960-AF52

Filing of Applications and Related Forms

AGENCY: Social Security Administration (SSA).

ACTION: Proposed rules.

SUMMARY: We propose to make revisions to our rules relating to the filing of an application for social security benefits. These changes will explain that SSA-approved Internet applications completed on SSA's website and submitted to SSA are prescribed applications for filing social security benefits. We propose to add cross-references to several sections to describe what makes an application a claim; and we plan to update the list of Related forms with other forms that are currently used in the application process. These proposed rules will inform the public that they have the option of filing an Internet application on SSA's website for all types of social security benefits.

DATES: We will consider your comments if we receive them no later than October 16, 2001.

ADDRESSES: Submit comments in writing to the Commissioner of Social Security, PO Box 17703, Baltimore, MD 21235-7703, send by telefax to (410) 966-2830, send by E-mail to regulations@ssa.gov, or deliver to the Office of Process and Innovation Management, Social Security Administration, L2109 West Low Rise Building, 6401 Security Boulevard, Baltimore, MD 21235-6401, between 8 a.m. and 4:30 p.m. on regular business days. Comments may be inspected during these same hours by making arrangements with the contact person shown below.

FOR FURTHER INFORMATION CONTACT: Lola Doyle, Social Insurance Specialist, Office of Program Benefits, Social Security Administration, 3-R-1 Operations Building, 6401 Security Boulevard, Baltimore, MD 21235-6401, (410) 965-5899 or TTY (410) 966-5609 for information about these rules. For information on eligibility or claiming benefits, call our national toll-free number, 1-800-772-1213 or TTY 1-800-325-0778 or visit our Internet website, SSA Online at http://www.ssa.gov/.

SUPPLEMENTARY INFORMATION:

Background

An individual must file an application in order to receive benefits under title II of the Social Security Act (the Act). In part 404 of our regulations, we establish rules for filing a claim for old-age, disability, dependents', and survivors' insurance benefits, which define the criteria for determining when an application is a claim for benefits. Similarly, we include the names of places where you can file an application, and explain what makes an application form acceptable as a claim for benefits. Our rules state that individuals must either sign the application or have someone who can act on their behalf sign for them. Except in limited situations, individuals must be alive at the time the application is filed.

In part 404, we further state that a claim filed with the Railroad Retirement Board for an annuity on one of its forms is an application for title II benefits, unless the individual states otherwise. We state that a claim filed with the Department of Veterans Affairs on one of its forms for survivors' dependency and indemnity compensation is also an application for social security dependents' and survivors' benefits (except for the lump sum death payment).

The types of applications currently prescribed by SSA are described in part 422. SSA's application process has evolved from its primary use of the traditional pre-printed application form for claims-taking to SSA employees who input information provided by the applicant into a computer terminal for processing. Computer printouts of the data are generated for the applicant to review the information and to sign the application.

SSA is committed to providing the public with the option to conduct business electronically by adding more Internet services on SSA's website, SSA Online http://www.ssa.gov/.

Toward this objective, we developed an Internet retirement insurance benefit application for national implementation in the fall of 2000. Statistics confirm that Internet usage has increased among older Americans and as a result, they have requested that more online services be made available to them. Internet applications for other benefit categories will be developed in the future. As applications become available on SSA's website, we will incorporate an explanation of SSA's approved signature method for each application as part of the Internet application process.

The main purpose of the proposed revisions is to inform the public that they have the option of filing an Internet application on SSA's website for all types of social security benefits. The proposed revisions include updating the list of Related forms in § 422.505(b) to reflect only those forms that are currently in use in the application process. The proposed revisions add cross-references to related sections to ensure that all necessary information for filing an application is available to the public. Finally, the proposed revisions make the regulations more readable, thus enabling the public to better understand the contents of the sections.

The following is a summary of the proposed revisions and our reasons for proposing these changes.

Explanation of Proposed Revisions

We are proposing to add a cross-reference in § 404.610(a) to related § 422.505(a), which explains the types of prescribed applications to be used by the public when filing for social security benefits. In § 404.610(b), we are proposing to add a cross-reference to related § 404.614, which lists the places where a social security application may be filed. We are also proposing to revise the language in the section for clarity. In § 404.611 we are proposing to revise the heading as part of reformatting the section. In addition, we are proposing to add a cross-reference in § 404.611(a) to related § 422.505(a), which, as noted above, explains the types of prescribed applications. We are proposing to change the heading in § 404.611(b) as part of the new format and to revise the text to make the section clearer. Similarly, in § 404.611(c) we are proposing a change in the heading and the text as part of the format change. We are proposing changing the heading in § 422.505 and revising the language in § 422.505(a) to make the contents of the section clearer. We are also proposing to revise § 422.505(a) to include language to state that Internet applications on SSA's website are prescribed applications. In § 422.505(b) we are proposing to revise the list of Related forms to delete the forms which are obsolete.

Clarity of These Regulations

Executive Order 12866 and the President's memorandum of June 1, 1998, require each agency to write all rules in plain language. We invite your comments on how to make these proposed rules easier to understand. For example:

• Have we organized the material to suit your needs?

• Are the requirements in the rules clearly stated?

• Do the rules contain technical language or jargon that isn't clear?

• Would a different format (grouping and order of sections, use of headings, paragraphing) make the rules easier to understand?

• Would more (but shorter) sections be better?

• Could we improve clarity by adding tables, lists, or diagrams?

• What else could we do to make the rules easier to understand?

Electronic Versions

The electronic file of this document is available on the Internet at http://www.acess.gpo.gov/su_docs/aces/aces140.html. It is also available on the Internet site for SSA (i.e., “SSA Online”) at http://www.ssa.gov/.

Regulatory Procedures

Executive Order 12866

We have consulted with the Office of Management and Budget (OMB) and determined that these proposed regulations do not meet the criteria for a significant regulatory action under Executive Order 12866. Thus, they were not subject to OMB review.

Regulatory Flexibility Act

We certify that these proposed regulations would not have a significant economic impact on a substantial number of small entities because they affect only individuals. Thus, a regulatory flexibility analysis as provided in the Regulatory Flexibility Act, as amended, is not required.

Paperwork Reduction Act

These proposed regulations would impose no additional reporting or recordkeeping requirements requiring OMB clearance. The SSA forms completed by the public listed in section 422.505 have previously been cleared by the Office of Management and Budget as necessary.

(Catalog of Federal Domestic Assistance Program Nos. 96.001, Social Security-Disability Insurance; 96.002 Social Security-Retirement Insurance; and 96.004 Social Security-Survivors Insurance.)

List of Subjects

20 CFR Part 404

Administrative practice and procedure, Blind, Disability benefits, Old-Age, Survivors and Disability Insurance, Reporting and recordkeeping requirements, Social Security.

20 CFR Part 422

Administrative practice and procedure, Freedom of Information, Organization and functions (government agencies), Social Security.

Dated: May 10, 2001.
Larry G. Massanari,
Acting Commissioner of Social Security.

For the reasons set forth in the preamble, we are proposing to amend part 404, subpart G, and part 422, subpart F of chapter III of title 20 of the Code of Federal Regulations as set forth below.

PART 404—FEDERAL OLD-AGE, SURVIVORS AND DISABILITY INSURANCE (1950- )

Subpart G—[Amended]

1. The authority citation for subpart G of part 404 continues to read as follows:

Authority: Secs. 202(i), (j), (o), (p), and (r), 205(a), 216(i)(2), 223(b), 228(a), and 702(a)(5) of the Social Security Act (42 U.S.C. 402(i), (j), (o), (p), and (r), 405(a), 416(i)(2), 423(b), 428(a), and 902(a)(5)).

2. Section 404.610 is revised to read as follows:

§ 404.610 What makes an application a claim for benefits?

We will consider your application a claim for benefits if it generally meets all of the following conditions:

(a) You must file on a prescribed form as stated in § 404.611. See § 422.505(a) of this chapter for the types of prescribed applications you can file.

(b) You must complete and file the application with us, as stated in § 404.611 and § 404.614.

(c) You, or someone described in § 404.612 who may sign an application for you, must sign the application.

(d) You must be alive at the time you file (unless one of the limited exceptions in § 404.615 applies).

3. Section 404.611 is revised to read as follows:

§ 404.611 How do I file an application for social security benefits?

(a) General rule. You must apply for benefits on an application that we prescribe. See § 422.505(a) of this chapter for the types of applications we will accept. See § 404.614 for places where you can file your application for benefits.

(b) What if I file a claim with the Railroad Retirement Board? If you file an application with the Railroad Retirement Board on one of its forms for an annuity under section 2 of the Railroad Retirement Act, as amended, we will consider this as an application for title II social security benefits which you may be entitled to, unless you tell us otherwise.

(c) What if I file a claim with the Department of Veterans Affairs (DVA)? If you file an application with the DVA on one of its forms for survivors' dependency and indemnity compensation (see section 3005 of title 38 U.S.C.), we will consider this an application for social security dependents' and survivors' benefits, except for the lump sum death payment.

PART 422—ORGANIZATION AND PROCEDURES

Subpart F—[Amended]

4. The authority citation for subpart F of part 422 continues to read as follows:

Authority: Secs. 205 and 702(a)(5) of the Social Security Act (42 U.S.C. 405 and 902(a)(5)). Section 422.512 is also issued under 30 U.S.C. 901 et seq.

5. Section 422.505 is revised to read as follows:

§ 422.505 What types of applications and related forms are used to apply for retirement, survivors, and disability insurance benefits?

(a) Applications. Prescribed applications include our traditional pre-printed forms, and applications our employees complete on computer screens based on information you give us, and which we then print on paper and process electronically. You may also use SSA's Internet website to submit SSA-approved applications to us. You can complete Internet applications on a computer (or other suitable device, such as an electronic Kiosk) and electronically transmit the form to us using an SSA-approved electronic signature. If, however, we do not have an approved electronic signature established when you file your Internet application, you may print and sign the completed application and deliver the form to us.

(b) Related forms. The following are some related forms:

SSA-3—Husband's Certification. (For use in connection with Application for Wife's Insurance Benefits, Form SSA-2.)

SSA-11—Application to be Selected as Payee. (For use when the individual proposing to be substituted for current payee files application to receive payment of benefits on behalf of himself, a disabled child or child under age 22, a student beneficiary, or an incompetent beneficiary.)

SSA-21—Supplement to Claim of Person Outside of the United States. (To be completed by or on behalf of a person who is, was, or will be outside the United States.)

SSA-25—Certificate of Election for Reduced Wife's Benefits. (For use by a wife age 62 through 64 who has an entitled child in her care and elects to receive reduced benefits for months during which she will not have a child in her care.)

SSA-721—Statement of Death by Funeral Director. (This form may be used as evidence of death (see § 404.704 of this chapter).)

SSA-760—Certificate of Support (Parent's, Husband's, or Widower's).

SSA-766—Statement of Self-Employment Income. (For use by a claimant to establish insured status based on self-employment income in the current year.)

SSA-787—Medical Officer's Statement. (For use in requesting medical evidence of a beneficiary's capacity to manage benefits from an institution.)

SSA-824—Report on Individual With Mental Impairment. (For use in obtaining medical evidence from medical sources when the claimant has been treated for a mental impairment.)

SSA-827—Authorization for Source to Release Information to the Social Security Administration (SSA). (To be completed by a disability claimant to authorize release of medical information.)

SSA-1002—Statement of Agricultural Employer. (For use by an employer to provide evidence of annual wage payments for agricultural work.)

SSA-1323—Report on Individual With Childhood Impairment. (For use in obtaining information from schools or agencies on how an impairment affects the individual's progress in school and to get the results and dates of any psychometric testing.)

SSA-1372—Student's Statement Regarding School Attendance. (For use in connection with a request for payment of child's insurance benefits for a child who is age 18 through 19 and a full-time student.)

SSA-1388—Report of Student Beneficiary at End of School Year. (For use in confirming continuing eligibility to benefits or indicating the need for suspension or termination action.)

SSA-1724—Claim for Amounts Due in the Case of a Deceased Beneficiary. (For use in requesting amounts payable under title II to a deceased beneficiary.)

SSA-3368—Disability Report—Adult. (For use in recording information about the claimant's condition, sources of medical evidence, and other information needed to process the claim to a decision.)

SSA-3369—Work History Report. (For use in recording work history information.)

SSA-3826-F4—Medical Report—General. (For use in helping disability claimants in obtaining medical records from their doctors or other medical sources.)

SSA-3827—Medical Report—Individual with Childhood Impairment. (For use in requesting information to determine if an individual's impairment meets the requirements for payments of childhood disability benefits.)

SSA-4111—Certificate of Election for Reduced Widow(er)'s Benefits. (For use by applicants for certain reduced widow's or widower's benefits.)

SSA-7156—Farm Self-Employment Questionnaire. (For use in connection with claims for benefits based on farm income to determine whether the income is covered under the Social Security Act.)

SSA-7160—Employment Relationship Questionnaire. (For use by an individual and the alleged employer to determine the individual's employment status.)

SSA-7163—Questionnaire About Employment or Self-Employment Outside United States. (To be completed by or on behalf of a beneficiary who is, was, or will be employed or self-employed outside the United States.)

[FR Doc. 01-20156 Filed 8-16-01; 8:45 am]

BILLING CODE 4191-02-U